COMMISSION ON CIVIL RIGHTS

Agenda and Notice of Public Meeting of the Maine Advisory Committee

AGENCY: Commission on Civil Rights.

ACTION: Announcement of briefing meeting.

SUMMARY: Notice is hereby given, pursuant to the provisions of the rules and regulations of the Commission on Civil Rights (Commission), and the Federal Advisory Committee Act (FACA), that a briefing meeting of the Maine Advisory Committee to the Commission will convene at 9:00 a.m. (EDT) on Wednesday, June 14, 2017 in the auditorium at City Hall in Lewiston, Maine, located at 27 Pine Street in Lewiston, ME 04240. The purpose of the briefing is to hear from government officials, advocates, and others on the criminalization of the mentally ill in Maine. The purpose of the meeting is to also review and vote on the advisory memorandum on judicial disparities.

DATES: Wednesday, June 14, 2017 (EDT).

Time: 9:00 a.m.—Briefing Meeting and Public Session.

ADDRESSES: 27 Pine St., Lewiston, Maine 04240.

FOR FURTHER INFORMATION CONTACT: Barbara Delaviez at ero@usccr.gov, or 202-376-7533.

SUPPLEMENTARY INFORMATION: If other persons who plan to attend the meeting require other accommodations, please contact Evelyn Bohor at ebohor@usccr.gov at the EasternRegional Office at least ten (10) working days before the scheduled date of the meeting.

Time will be set aside at the end of the briefing so that members of the public may address the Committee after the formal presentations have been completed. Persons interested in the issue are also invited to submit written comments; the comments must be received in the regional office by Friday, July 14, 2017. Written comments may be mailed to the Eastern Regional Office, U.S. Commissionon Civil Rights, 1331 Pennsylvania Avenue, Suite 1150, Washington, DC 20425, faxed to (202) 376-7548, or emailed to Evelyn Bohor at ero@usccr.gov. Persons who desire additional information may contact the Eastern Regional Office at (202) 376-7533.

Records and documents discussed during the meeting will be available for public viewing as they become available at https://database.faca.gov/committee/meetings.aspx?cid=252 and clicking on the “Meeting Details” and “Documents” links. Records generated from this meeting may also be inspected and reproduced at the Eastern Regional Office, as they become available, both before and after the meeting. Persons interested in the work of this advisory committee are advised to go to the Commission's Web site, www.usccr.gov, or to contact the Eastern Regional Office at the above phone number, email or street address.

Tentative Agenda

Wednesday, June 14, 2017

I. Welcome and Introductions 9:00 a.m.

II. Briefing 9:15 a.m. to 6:00 p.m.

Panel One: Family of the Mentally Ill and Mental Health Advocates

Panel Two: Law Enforcement

Panel Three: Critical Decisions

Panel Four: Legislature Issues

III. Open Session—conclusion of panels

IV. Adjournment

Dated: May 12, 2017.
David Mussatt,
Supervisory Chief, Regional Programs Unit.

[FR Doc. 2017-10029 Filed 5-17-17; 8:45 am]

BILLING CODE P